DEPARTMENT OF ENERGY

Federal Energy Regulatory Commission

[Docket No. IC18-5-000]

Corrected Errata Notice

AGENCY: Federal Energy Regulatory Commission, DOE.

ACTION: Corrected errata and comment request.

SUMMARY: In compliance with the requirements of the Paperwork Reduction Act (PRA) of 1995, the Federal Energy Regulatory Commission (Commission or FERC) is submitting the information collections FERC-917 (Non-discriminatory Open Access Transmission Tariff) and FERC-918 (Information to be posted on OASIS & Auditing Transmission Service Information) to the Office of Management and Budget (OMB) for review of the information collection requirements. Any interested person may file comments directly with OMB and should address a copy of those comments to the Commission as explained below. The Commission published 60-day and 30-day notices (in the Federal Register on February 6, 2018, and May 9, 2018, respectively), for the renewal of the FERC-917 and FERC-918 information collections. Both notices requested comments on FERC-917 and FERC-918 and indicated the Commission will submit the information collections to the Office of Management and Budget (OMB) for review. The cost information was inadvertently omitted from the Notices. Due to this oversight, we provided an additional 15 days for comments, which are due June 27, 2018. In addition, some figures included in the Errata Notice (published in the Federal Register on June 12, 2018) are being corrected in this Notice. Any interested person may file comments directly with OMB and should address a copy of those comments to the Commission as explained below. (There are no changes to the information collections.)

DATES: Comments on the collections of information are due by June 27, 2018.

ADDRESSES: Comments filed with OMB, identified by the OMB Control No. 1902-0233 (FERC-917 and FERC-918) should be sent via email to the Office of Information and Regulatory Affairs: oira_submission@omb.gov, Attention: Federal Energy Regulatory Commission Desk Officer.

A copy of the comments should also be sent to the Federal Energy Regulatory Commission, identified by the Docket No. IC18-5-000, by one of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, by telephone at (202) 502-8663, and by fax at (202) 273-0873.

SUPPLEMENTARY INFORMATION:

Title: FERC-917 (Non-discriminatory Open Access Transmission Tariff) and FERC-918 (Information to be Posted on OASIS & Auditing Transmission Service Information).

OMB Control No.: 1902-0233.

Type of Request: Three-year extension of the FERC-917 and FERC-918 information collection requirements with no changes to the reporting requirements.

Type of Respondents: Public Utilities transmission providers.

Estimate of Annual Burden: This Errata Notice adds the missing cost data and corrects other figures.

The corrected table follows.¹

¹ The zeroes for respondents and responses are based on having no filings of this type over the past four years. In addition, we estimate no filings during the next three years. The requirements remain in the regulations and are included as part of the OMB Control Number.

FERC-917 (Non-Discriminatory Open Access Transmission Tariff) and FERC-918 (Information To Be Posted on OASIS & Auditing Transmission Service Information)
| Number of respondents | Annual number of responses per respondent | Annual number of responses | Average burden hrs. and cost ($) ² per response | Total annual burden hours and total annual cost ($) | Cost per respondent ($)
| (1) | (2) | (1) * (2) = (3) | (4) | (3) * (4) = (5) | (5) ÷ (1) = (6)
18 CFR 35.28 (FERC-917)
Conforming tariff changes (Reporting) | 0 | 0 | 0 | 0 | 0 | 0
Revision of Imbalance Charges (Reporting) | 0 | 0 | 0 | 0 | 0 | 0
ATC revisions (Reporting) | 0 | 0 | 0 | 0 | 0 | 0
Planning (Attachment K) (Reporting) | 134 | 1 | 134 | 100 hrs., $7,200.00 | 13,400 hrs., $964,800 | $7,200.00
Congestion studies (Reporting) | 134 | 1 | 134 | 300 hrs., $21,600 | 40,200 hrs., $2,894,400 | 21,600.00
Attestation of network resource commitment (Reporting) | 134 | 1 | 134 | 1 hrs., $72.00 | 134 hrs., $9,648.00 | 72.00
Capacity reassignment (Reporting) | 134 | 1 | 134 | 100 hrs., $7,200.00 | 13,400 hrs., $964,800.00 | 7,200
Operational Penalty annual filing (Record Keeping) | 134 | 1 | 134 | 10 hrs., $327.40 | 1,340 hrs., $43,871.60 | 327.40
Creditworthiness—include criteria in the tariff (Reporting) | 0 | 0 | 0 | 0 | 0 | 0
FERC-917, Sub-Total of Record Keeping Requirements |  |  |  |  | 1,340 hrs., $43,871.60 |
FERC-917, Sub-Total of Reporting Requirements |  |  |  |  | 67,134 hrs., $4,833,648.00 |
FERC-917, Sub-Total of Reporting and Recordkeeping Requirements |  |  |  |  | 68,474 hrs., $4,877,519.60 |
18 CFR 37.6 & 37.7 (FERC-918) ³
Implementation by each utility (Reporting) | 0 | 0 | 0 | 0 | 0 | 0
NERC/NAESB Team to develop (Reporting) | 0 | 0 | 0 | 0 | 0 | 0
Review and comment by utility (Reporting) | 0 | 0 | 0 | 0 | 0 | 0
Mandatory data exchanges (Reporting) | 134 | 1 | 134 | 80 hrs., $5,760.00 | 10,720 hrs., $771,840.00 | 5,760.00
Explanation of change of ATC values (Reporting) | 134 | 1 | 134 | 100 hrs., $7,200.00 | 13,400 hrs., $964,800.00 | 7,200.00
Reevaluate CBM and post quarterly (Record Keeping) | 134 | 1 | 134 | 20 hrs., $654.80 | 2,680 hrs., $87,743.20 | 654.80
Post OASIS metrics; requests accepted/denied (Reporting) | 134 | 1 | 134 | 90 hrs., $6,480.00 | 12,060 hrs., $868,320.00 | 6,480.00
Post planning redispatch offers and reliability redispatch data (Record Keeping) | 134 | 1 | 134 | 20 hrs., $654.80 | 2,680 hrs., $87,743.20 | 654.80
Post curtailment data (Reporting) | 134 | 1 | 134 | 1 hrs., $72.00 | 134 hrs., $9,648.00 | 72.00
Post Planning and System Impact Studies (Reporting) | 134 | 1 | 134 | 5 hrs., $360.00 | 670 hrs., $48,240.00 | 360.00
Posting of metrics for System Impact Studies (Reporting) | 134 | 1 | 134 | 100 hrs., $7,200.00 | 13,400 hrs.; $964,800.00 | 7,200.00
Post all rules to OASIS (Record Keeping) | 134 | 1 | 134 | 5 hrs., $163.70 | 670 hrs., $21,935.80 | 163.70
FERC-918, Sub-Total of Record Keeping Requirements |  |  |  |  | 6,030 hrs., $197,422.20 |
FERC-918, Sub-Total of Reporting Requirements |  |  |  |  | 50,384.00 hrs., $3,627,648 |
FERC-918, Sub-Total of Reporting and Recordkeeping Requirements |  |  |  |  | 56,414 hrs., $3,825,070.20 |
Total FERC-917 and FERC-918 (Reporting and Recordkeeping Requirements) |  |  |  |  | 124,888 hrs., $8,702,589.80 |
Off-site storage cost |  |  |  |  | $7,400,000 |

² The estimated hourly cost (salary plus benefits) provided in this section is based on the salary figures for May 2017 posted by the Bureau of Labor Statistics for the Utilities sector (available at http://www.bls.gov/oes/current/naics2_22.htm) and benefits data of May 2017 (available at https://www.bls.gov/oes/current/naics2_22.htm):

Legal (Occupation Code: 23-0000): $143.68; Consulting (Occupation Code: 54-1600): $89.00; Management Analyst (Occupation Code: 13-1111): $63.49; Office and Administrative Support (Occupation Code: 43-000): $40.89; Electrical Engineer (Occupation Code: 17-2071): $68.12; Information Security Analyst (Occupation Code: 15-1122): $66.34; File Clerk (Occupation Code: 43-4071): $32.74.

For reporting requirements, the skill sets are assumed to contribute equally, so the hourly cost is an average [($143.68 + $89.00 + $63.49 + $40.89 + $68.12 + $66.34 + $32.74) ÷ 7 = $72.04]. The figure is rounded to $72.00 per hour.

For recordkeeping requirements, the hourly cost for a file clerk ($32.74) is used.

³ ATC-related standards include: Implementation by each utility (Reporting), NERC/NAESB Team to develop (Reporting), and Review and comment by utility (Reporting).

Dated: June 13, 2018.
Kimberly D. Bose,
Secretary.

[FR Doc. 2018-13021 Filed 6-15-18; 8:45 am]

BILLING CODE 6717-01-P